DEPARTMENT OF STATE

[Delegation of Authority No. 383]

Delegation to the Under Secretary of State for Civilian Security, Democracy, and Human Rights With Respect to Authority Under Section 620M(b) of the Foreign Assistance Act of 1961, as Amended (22 U.S.C. 2378d)

By virtue of the authority vested in the Secretary of State, including the Foreign Assistance Act of 1961, as amended (22 U.S.C. 2151 et seq.) (the Act), Executive Order 12163 of September 29, 1979, as amended (44 FR 56673) (the Order), and Section 1 of the Department of State Basic Authorities Act, as amended (22 U.S.C. 2651a), and delegated to the Deputy Secretary pursuant to Delegation of Authority 245-1, I hereby delegate to the Under Secretary of State for Civilian Security, Democracy, and Human Rights, to the extent authorized by law, the function of making determinations and reports under Section 620M(b) of the Act (22 U.S.C. 2378d).

Any act, executive order, regulation or procedure subject to, or affected by, this delegation shall be deemed to be such act, executive order, regulation or procedure as reenacted or amended from time to time.

Notwithstanding this delegation of authority, the Secretary, the Deputy Secretary, or the Deputy Secretary for Management and Resources may at any time exercise any authority or function delegated by this delegation of authority.

This delegation of authority shall be published in the Federal Register.

Dated: February 5, 2015.
Antony Blinken,
Deputy Secretary of State.

[FR Doc. 2015-05286 Filed 3-5-15; 8:45 am]

BILLING CODE 4710-18-P